DEPARTMENT OF LABOR

Pension and Welfare Benefits Administration

113th Full Meeting of the Advisory Council on Employee Welfare and Pension Benefits Plans; Notice of Meeting

Pursuant to the authority contained in section 512 of the Employee Retirement Income Security Act of 1974 (ERISA), 29 U.S.C. 1142, the 113th open meeting of the full Advisory Council on Employee Welfare and Pension Benefit Plans will be held Tuesday, March 6, 2001, in Room S-2508, U.S. Department of Labor Building, 200 Constitution Avenue, NW, Washington, DC 20210.

The purpose of the meeting, which will begin at 1:30 p.m. and end at approximately 3:30 p.m., is to consider the items listed below:

I. Welcome and Introduction and Swearing In of New Council Members

II. Report from the Acting Assistant Secretary of Labor for the Pension and Welfare Benefits Administration (PWBA)

III. Introduction of PWBA Senior Staff

IV. Summary of the 2000 Final Reports Made by Advisory Council Working Groups

V. Determination of Topics to Be Addressed by Council Working Groups for 2001

VI. Statements from the General Public

VII. Adjournment

Members of the public are encouraged to file a written statement pertaining to any topics the Council may wish to study for the year concerning ERISA by submitting 20 copies on or before February 28, 2001 to Sharon Morrissey, Executive Secretary, ERISA Advisory Council, U.S. Department of Labor, Suite N-5677, 200 Constitution Avenue, NW, Washington, DC 20210. Individuals or representatives of organizations wishing to address the Advisory Council should forward their requests to the Executive Secretary or telephone (202) 219-8921. Oral presentations will be limited to ten minutes, time permitting, but an extended statement may be submitted for the record. Individuals with disabilities, who need special accommodations, should contact Sharon Morrissey by February 28 at the address indicated.

Organizations or individuals may also submit statements for the record without testifying. Twenty (20) copies of such statements should be sent to the Executive Secretary of the Advisory Council at the above address. papers will be accepted and included in the record of the meeting if received on or before February 28, 2001.

Signed at Washington, DC this 12th day of February, 2001.
Alan D. Lebowitz,
Acting Assistant Secretary, Pension and Welfare Benefits Administration.

[FR Doc. 01-3966 Filed 2-15-01; 8:45 am]

BILLING CODE 4510-29-M